DEPARTMENT OF ENERGY

Federal Energy Regulatory Commission

[Docket No. IC08-520-000; FERC-520]

Commission Information Collection Activities, Proposed Collection; Comment Request; Extension

April 8, 2008.

AGENCY: Federal Energy Regulatory Commission, Department of Energy.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Comments in consideration of the collection of information are due June 9, 2008.

ADDRESSES: An example of this collection of information may be obtained from the Commission's Documents & Filing Web site (http://www.ferc.gov/docs-filing/elibrary.asp) or by contacting the Federal Energy Regulatory Commission, Attn: Michael Miller, Office of the Executive Director, ED-34 Rm. 42-39, 888 First Street, NE., Washington, DC 20426. Comments may be filed either in paper format or electronically. Those parties filing electronically do not need to make a paper filing. For paper filing, the original and 14 copies of such comments should be submitted to the Office of the Secretary, Federal Energy Regulatory Commission, 888 First Street, NE., Washington, DC 20426 and refer to Docket No. IC08-520-000. Documents filed electronically via the Internet must be prepared in an acceptable filing format and in compliance with the Federal Energy Regulatory Commission submission guidelines. Complete filing instructions and acceptable filing formats are available at (http://www.ferc.gov/help/submission-guide/electronic-media.asp). To file the document electronically, access the Commission's website and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-520 “Application for Authority to Hold Interlocking Directorate Positions” (OMB No. 1902-0083) is used by the Commission to implement the statutory provisions of section 305 of the Federal Power Act (FPA) as amended by Title II, section 211 of the Public Utility Regulatory Policies Act of 1978 (PURPA) (16 U.S.C. 825d). Section 305(b) makes the holding of certain defined interlocking corporate positions unlawful unless the Commission has authorized the interlocks to be held and, requires the applicant to show in a form and manner as prescribed by the Commission, that neither public nor private interests will be adversely affected by the holding of the position.

The Commission implements these provisions through its filing requirements in the Code of Federal Regulations (CFR) 18 CFR part 45. The information required under part 45 generally identifies the applicant, describes the various interlocking positions the applicant seeks authorization to hold, provides information on the applicant's financial interests, other officers and directors of the firms involved, and the nature of the business relationships among the firms.

Two types of FERC-520 applications are provided for, that which is described in 18 CFR 45.8 as a “full” application and that which is described in 18 CFR 45.9 as an “informational” application for automatic authorization. Section 45.8 “full” applications are made by (1) An officer or director of more than one public utility; (2) an officer or director of a public utility and of a public utility securities underwriter; or (3) an officer or director of a public utility and of an electrical equipment supplier to that utility. Section 45.9 “informational applications” are made by (1) An officer or director of two or more public utilities where the same holding company owns, directly or indirectly, wholly or in part, the other public utility; (2) an officer or director of two public utilities, if one utility is owned, wholly or in part, by the other; or (3) an officer or director of more than one public utility, if such person is already authorized under Part 45 to hold different positions where the interlock involves affiliated public utilities.

Without this information collection, the Commission and the public would not be able to inquire into and determine whether public or private interests will be adversely affected by the holding of such positions.

Under the current OMB authorization, the Commission was allowing the filing of FERC-520 in hardcopy and/or diskette/CD. However, through RM07-16-000, implemented March 1, 2008, the electronic filing of FERC-520 filings is also accepted through the Commission's eFiling system.

Action: The Commission is requesting a three-year extension of the current expiration date.

Burden Statement: The two types of interlocking directorate applications, a “full application” pursuant to 18 CFR 45.8 and the much more abbreviated “informational application” pursuant to 18 CFR 45.9 are represented separately here. Public reporting burden for each is estimated as:

Type of application filed annually | Number of respondents annually | Number of responses per respondent | Average burden hours per response | Total annual burden hours
| (1) | (2) | (3) | (1)×(2)×(3)
Full | 17 | 1 | 51.8 | 881
Informational | 911 | 1 | 29.5 | 23,595
Total |  |  |  | 24,476

The estimated total cost to respondents is $1,487,199 [24,476 hours divided by 2080 hours ¹ per year, times $126,384 ² which equals $1,487,199]. The cost per respondent is $1,603. The increase in the estimated total cost over what was reported in 2005 is due to the informational filings not being included in earlier estimates. The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

¹ Number of hours an employee works each year.

² Average annual salary per employee.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed information collection is necessary for the proper performance of the functions of the Commission, including whether the information will have practical utility; (2) the accuracy of the agency's burden estimate of the proposed information collection, including the validity of the methodology and assumptions used to calculate the reporting burden; and (3) ways to enhance the quality, utility and clarity of the information to be collected.

Kimberly D. Bose,
Secretary.

[FR Doc. E8-7919 Filed 4-14-08; 8:45 am]

BILLING CODE 6717-01-P